ENVIRONMENTAL PROTECTION AGENCY

[FRL-8451-1]

Clean Water Act Section 303(d): Availability of List Decisions

AGENCY: Environmental Protection Agency.

ACTION: Notice of Availability.

SUMMARY: This notice announces the availability of EPA's Responsiveness Summary Concerning EPA's October 31, 2006 Public Notice of Final Decisions To Add Waters and Pollutants to Arkansas' 2004 Section 303(d) List.

On October 31, 2006, EPA published a notice in the Federal Register at Volume 71, Number 210, pages 63759-63760 providing the public the opportunity to review its final decisions to add waters and pollutants to Arkansas' 2004 Section 303(d) List as required by EPA's Public Participation regulations (40 CFR part 25). Based on the Responsiveness Summary, no further action is warranted regarding EPA's Final Action on Arkansas' 2004 Section 303(d) List.

ADDRESSES: Copies of EPA's Responsiveness Summary Concerning EPA's October 31, 2006 Public Notice of Final Decisions to Add Waters and Pollutants to Arkansas; 2004 Section 303(d) Lists can be obtained at EPA Region 6's Web site at http://www.epa.gov/earth1r6/6wq/tmdl.htm, or by writing or calling Ms. Diane Smith at Water Quality Protection Division, U.S. Environmental Protection Agency Region 6, 1445 Ross Ave., Dallas, TX 75202-2733, telephone (214) 665-2145, facsimile (214) 665-6490, or e-mail: smith.diane@epa.gov. Underlying documents from the administrative record for these decisions are available for public inspection at the above address. Please contact Ms. Smith to schedule an inspection.

FOR FURTHER INFORMATION CONTACT: Diane Smith at (214) 665-2145.

SUPPLEMENTARY INFORMATION: Section 303(d) of the Clean Water Act (CWA) requires that each state identify those waters for which existing technology-based pollution controls are not stringent enough to attain or maintain state water quality standards. For those waters, states are required to establish Total Maximum Daily Loads (TMDLs) according to a priority ranking.

EPA's Water Quality Planning and Management regulations include requirements related to the implementation of Section 303(d) of the CWA (40 CFR 130.7). The regulations require states to identify water quality limited waters still requiring TMDLs every two years. The list of waters still needing TMDLs must also include priority rankings and must identify the waters targeted for TMDL development during the next two years (40 CFR 130.7). On March 31, 2000, EPA promulgated a revision to this regulation that waived the requirement for states to submit Section 303(d) Lists in 2000 except in cases where a court order, consent decree, or settlement agreement required EPA to take action on a list in 2000 (65 FR 17170).

Consistent with EPA's regulations, Arkansas submitted to EPA its listing decisions under Section 303(d) on May 20, 2004 with subsequent revisions submitted on August 17, 2004, November 12, 2004, July 20, 2005, and October 11, 2005. On October 16, 2006, EPA approved Arkansas' listing of 271 water body-pollutant combinations and associated priority rankings and deferred action on 129 water body-pollutant combinations. EPA disapproved Arkansas' decision not to list 5 water body-pollutant combinations and associated priority rankings. EPA identified these additional water body-pollutant combinations along with priority rankings for inclusion on the 2004 Section 303(d) List.

Dated: July 30, 2007.
William K. Honker,
Acting Director, Water Quality Protection Division, Region 6.

[FR Doc. E7-15329 Filed 8-6-07; 8:45 am]

BILLING CODE 6560-50-P